DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of August 1, 2019 through August 31, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely;

AND (ii and iii below)

(ii)(I) imports of articles or services like or directly competitive with articles produced or services supplied by such firm have increased; OR (II)(aa) imports of articles like or directly competitive with articles into which one or more component parts produced by such firm are directly incorporated, have increased; OR (II)(bb) imports of articles like or directly competitive with articles which are produced directly using the services supplied by such firm, have increased; OR (III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i)(I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,564 | R&M Sea Level Marine LLC, R&M Ship Technologies USA, Inc | Davie, FL | February 25, 2018.
94,613 | Hawkins Architectural Products, LLC, Solar Seal Division, Express Employment Professionals | Stafford, VA | March 8, 2018.
94,635 | Porcelain Industries, Inc., Express, People Ready, Talent Force, Safe Harbor, Volt | Dickson, TN | March 15, 2018.
95,081 | Mueller Copper Tube Products, Inc., Mueller Industries, Inc. | Wynne, AR | August 15, 2018.

The following certifications have been issued. The requirements of Section 222(a)(2)(B) (Shift in Production or Services to a Foreign Country Path or Acquisition of Articles or Services from a Foreign Country Path) of the Trade Act have been met.

TA-W No. | Subject firm | Location | Impact date
94,472 | MSCI ESG Research LLC, MSCI Inc | Portland, ME | January 22, 2018.
94,704 | Sulzer Pumps (US) Inc., Pumps Equipment Division, Sulzer US Holding, Madden Industrial Craftsmen | Portland, OR | May 7, 2018.
94,704A | Quadco Industrial Services Inc. and Randstad, Sulzer Pumps (US) Inc., Pumps Equipment Division, Sulzer US Holding Inc | Portland, OR | April 4, 2018.
94,765 | Cenveo Publisher Services, Richmond—Content Division, Cenveo Worldwide Limited, Cenveo, Inc | Richmond, VA | April 29, 2018.
94,805 | Purewick Corporation, Express Employment Professionals | El Cajon, CA | May 10, 2018.
94,824 | AIG Employee Services, Inc., Investments & Corporate IT-Water Street, American International Group, etc | New York, NY | May 19, 2018.
94,824A | AIG Employee Services, Inc., Investments & Corporate IT—Berkeley Heights, etc | Berkeley Heights, NJ | May 19, 2018.
94,861 | Becton, Dickinson and Company, Finance Division, ZForce | Chelmsford, MA | May 30, 2018.
94,879 | Kulicke & Soffa, Industries, Intellisource, LLC, John Galt | Santa Ana, CA | June 5, 2018.
94,883 | Gray & Company, Seneca Foods Corporation, Aerotek, GLISS General Labor & Industrial | Dayton, OR | June 5, 2018.
94,896 | AT&T Digital Retail and Care, Customer Loyalty, AT&T Services, AT&T, Sutherland Global Services | Houston, TX | June 13, 2018.
94,927 | CCPI Inc., Staffmark, Contingent WorkForce | Blanchester, OH | June 21, 2018.
94,955 | Citibank, Global Consumer Technology Division | Sioux Falls, SD | June 28, 2018.
94,962 | X-Cel Optical Company, Essilor of America, Inc., Aerotek | Sauk Rapids, MN | July 1, 2018.
94,964 | Perry Capital Holding, Appalachian Regional Manufacturing | Jackson, KY | July 2, 2018.
94,972 | TMG Health, A Cognizant Company, Cognizant Domestic Holdings, Cognizant Technology Solutions, Aerotek, etc | Amarillo, TX | July 3, 2018.
94,976 | Novo Nordisk Case Processing team, Product Safety, Novo Nordisk Inc | Plainsboro Township, NJ | July 9, 2018.
94,986 | Sargent Manufacturing Company, Assa Abloy, Information Technology Help Desk Support, Tek Systems, etc | New Haven, CT | July 12, 2018.
95,000 | Cleveland Hardware & Forging Co., Cleveland Hardware Division, Express Employment | Cleveland, OH | July 17, 2018.
95,005 | CommScope Technologies, LLC, CommScope Inc., CommScope Holding Company, Inc | Forest, VA | July 19, 2018.
95,011 | Black Diamond Equipment, Synergy Staffing, BBSI Staffing, Elwood Staffing | Salt Lake City, UT | July 23, 2018.
95,012 | Frontier Communications, Network Translations Organization Team, Frontier Communications Corporation | Norwich, NY | July 23, 2018.
95,018 | Flexsteel Industries, Inc., Penmac, Synergy HR, PeopleLink | Harrison, AR | July 25, 2018.
95,020 | Kimball Hospitality, Debbie's Staffing | Martinsville, VA | July 26, 2018.
95,021 | Affinity Insurance Services, Inc., Aon Services Corp., Tapfin, TCS, and Genpact | Fort Washington, PA | July 29, 2018.
95,029 | Vesuvius USA Corporation, Fused Silica Division, Olsten Staffing Services and Amotec | Dillon, SC | July 30, 2018.
95,032 | First Call Resolution, LLC, Ortana, Elwood Staffing, Express Employment, Aerotek Professionals, etc | Roseburg, OR | July 31, 2018.
95,044 | Mitsubishi Heavy Industries Climate Control, Inc., Mitsubishi Heavy Industries Thermal Systems, Crown Services, etc | Franklin, IN | August 5, 2018.
95,064 | Experian Services Corp., Alliance Resource Group LP, Apex Systems, Compunnel Software Group, etc | Costa Mesa, CA | August 12, 2018.
95,106 | Vesuvius Pittsburgh Research, Flow Control VISO Division, Medix and Apex Life Sciences | Pittsburgh, PA | August 21, 2018.

The following certifications have been issued. The requirements of Section 222(b) (supplier to a firm whose workers are certified eligible to apply for TAA) of the Trade Act have been met.

TA-W No. | Subject firm | Location | Impact date
94,692 | AT&T Services, Inc., Corporate Telecommunications Services (CTS) | San Ramon, CA | April 4, 2018.
94,692A | AT&T Services, Inc., Corporate Telecommunications Services (CTS) | Oakland, CA | April 4, 2018.
94,692B | AT&T Services, Inc., Corporate Telecommunications Services (CTS) | Cerritos, CA | April 4, 2018.
94,775 | General Motors, Warren Transmission Operations | Warren, MI | August 17, 2019.
94,775A | Allegis, Jones Lang Lasalle, Eurest Services, and Integrity Fleet Services, General Motors, Warren Transmission Operations | Warren, MI | May 1, 2018.
94,901 | Parker Hannifin Corporation, Hose Product Division | Kennett, MO | June 13, 2018.

The following certifications have been issued. The requirements of Section 222(e) (firms identified by the International Trade Commission) of the Trade Act have been met.

TA-W No. | Subject firm | Location | Impact date
94,945 | Arconic Lancaster DBA Alumax Mill Products, Inc., Global Rolled Products Division, Arconic Inc | Lancaster, PA | February 5, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
94,874 | Lodging Solutions, Accommodations Plus International, Information Technology Unit | Melville, NY |
94,911 | Fidelity Information Services, LLC, Fidelity National Information Services, Inc | Woodbury, MN |

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,487 | Integrated Device Technology Inc. (IDT), Eastridge, West Valley | San Jose, CA |
94,608 | JW Aluminum Company | Russellville, AR |
94,691 | Android Industries-Belvidere, LLC, QPS Employment Group-Rockford, Spherion Staffing Services | Belvidere, IL |
94,811 | Liberty Mutual Group Inc., Mishawaka Customer Response Center | Mishawaka, IN |

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,577 | Tech Mahindra (Americas), Inc., Tech Mahindra Limited, System Database Administrators, AT&T Account | Mount Clemens, MI |
93,993 | Mellanox Technologies Silicon Photonics Inc. (MTSP), Mellanox Technologies Inc., Aerotek | Monterey Park, CA |
94,695 | Grupo Antolin Illinois, Staff On Site Midwest, Inc | Belvidere, IL |
94,705 | Syncreon, US, QPS, Cortech | Belvidere, IL |
94,714 | Verizon Wireless, Call Center | Albuquerque, NM |
94,812 | Premier Aviation Overhaul Center, Ltd., Launch Technical Workforce Solutions, STS Aerostaff, Aviation Personnel | Rome, NY |
94,815 | AEC Virginia, LLC, Asheboro Elastics Corporation | Boykins, VA |
94,825 | Payless Shoesource Worldwide, Inc., Payless, Inc., Logistics Department | Topeka, KS |
94,839 | Xerox Corporation, Global Communications Services Operations, Creative Services | Webster, NY |
95,025 | Futurewei Technologies, Inc., Huawei Technologies, Boston Research Center, Workforce Logiq, Experis, etc | Framingham, MA |
95,025A | Futurewei Technologies, Inc., Huawei Technologies Co., Ltd, Boston Research Center | Cambridge, MA |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,946 | AT&T Services, Inc. | St. Louis, MO |
95,026 | Hexagon Manufacturing Intelligence | North Kingstown, RI |
95,037 | El Dorado Paper Bag Manufacturing Company, Inc. | El Dorado, AR |

The following determinations terminating investigations were issued in cases where the petition regarding the investigation has been deemed invalid.

TA-W No. | Subject firm | Location | Impact date
95,125 | Briggs & Stratton Corporation, Murray Plant | Murray, KY |

The following determinations terminating investigations were issued because the worker group on whose behalf the petition was filed is covered under an existing certification.

TA-W No. | Subject firm | Location | Impact date
93,659 | Sykes Enterprises Incorporated | Amherst, NY |
94,121 | Sykes Enterprises, Incorporated | Milton Freewater, OR |
94,508 | Smith & Nephew, KellyOCG | Mansfield, MA |
94,646 | Smith & Nephew | Andover, MA |
94,646A | Smith & Nephew | Austin, TX |
94,701 | Cognizant Technology Solutions U.S. Corp., Retail Consumer Goods Division | Topeka, KS |
94,816 | Primus Global Services, Inc., Sriven Systems of TX Inc., Teknaux, Cogent Infotech, TMG Health, A Cognizant Company, etc | Jessup, PA |
94,842 | ConAgra Brands, Inc., Global Business Information Services | Parsippany, NJ |
94,897 | Insight and Exela Technologies, Ditech Holding Corporation | Rapid City, SD |
94,971 | TE Connectivity, Randstad | Menlo Park, CA |
94,994 | Fargo Assembly of PA, Inc., Electrical Components International Inc., Essential Personnel | David City, NE |
95,017 | AT&T Business-Global Operations & Services, Delivery Excellence-Global Product Ordering, Business VOIP Team, etc | Grand Rapids, MI |

The following determinations terminating investigations were issued because the petitioning group of workers is covered by an earlier petition that is the subject of an ongoing investigation for which a determination has not yet been issued.

TA-W No. | Subject firm | Location | Impact date
94,864 | Teck Washington Incorporated | Metaline Falls, WA |

I hereby certify that the aforementioned determinations were issued during the period of August 1, 2019 through August 31, 2019. These determinations are available on the Department's website https://www.doleta.gov/tradeact/petitioners/taa_search_form.cfm under the searchable listing determinations or by calling the Office of Trade Adjustment Assistance toll free at 888-365-6822.

Signed at Washington DC this 9th day of September 2019.
Hope D. Kinglock,
Certifying Officer, Office of Trade Adjustment Assistance.

[FR Doc. 2019-20600 Filed 9-23-19; 8:45 am]

BILLING CODE 4510-FN-P